DEPARTMENT OF DEFENSE

Department of the Army

Notice of Availability of the Draft Environmental Impact Statement for the Disposal of chemical Munitions at the Pueblo Chemical Depot, Colorado

AGENCY: Department of the Army, DoD.

ACTION: Notice of Availability (NOA).

SUMMARY: This announces the availability of the Draft Environmental Impact Statement (DEIS) which assesses the potential environmental impacts of the design, construction, operation and closure of a facility to destroy the mustard chemical agent and munitions stored at the Pueblo Chemical Depot. The proposed facility will be used to demilitarize the chemical agent and munitions currently stored at the Depot. The DEIS examines the potential environmental impacts of the following destruction facility alternatives: (a) A baseline incineration facility; (b) a modified baseline incineration facility; (c) neutralization followed by supercritical water oxidation; (d) neutralization followed by biodegradation; and (e) no action (i.e., continued storage of chemical munitions at Pueblo Chemical Depot). Although the no action alternative is not viable under Public Law 99-145 (Department of Defense Authorization Act of 1986), it was analyzed to provide comparison with the proposed action.

DATES: The public comment period for the DEIS will end 45 days after publication of the NOA in the Federal Register by the U.S. Environmental Protection Agency.

ADDRESSES: Written comments may be forwarded to the Program Manager for Chemical Demilitarization, Public Outreach and Information Office (ATTN: Mr. Gregory Mahall), Building E-4585, Aberdeen Proving Ground, Maryland, 21010-4005.

FOR FURTHER INFORMATION CONTACT: Mr. Gregory Mahall at (410) 436-1093, by fax at (410) 436-5122 or by email at gregory.mahall@pmcd.apgea.army.mil or by mail at the above listed address.

SUPPLEMENTARY INFORMATION: In its Record of Decision on February 26, 1988 (53 FR 5816, February 26, 1988) for the Final Programmatic Environmental Impact Statement on the Chemical Stockpile Disposal Program (CSDP), the Department of the Army selected on-site disposal by incineration at all eight chemical munition storage sites within the continental United States as the method by which it will destroy its lethal chemical stockpile. The Department of the Army published a Notice of Intent in the Federal Register (65 FR 20140-20141, April 14, 2000) which provides notice that, pursuant to the National Environmental Policy Act and implementing regulations, it was preparing a draft site-specific EIS for the Pueblo Chemical Agent Disposal Facility. The Department of the Army prepared a DEIS to assess the site-specific health and environmental impacts of on-site disposal of the chemical agents and munitions stored at the Pueblo Chemical Depot.

A public meeting will be held in the vicinity of the Pueblo Chemical Depot with the announcement of the date, time and location appearing in the local news media at least 15 days prior to the selected date. Public comments received on the DEIS will be considered and addressed in the Final EIS and considered by the Army in its Record of Decision.

Dated: May 4, 2001.
Raymond J. Fatz,
Deputy Assistant Secretary of the Army (Environment, Safety and Occupational Health), OASA (I&E).

[FR Doc. 01-11705 Filed 5-8-01; 8:45 am]

BILLING CODE 3710-08-M